FEDERAL COMMUNICATIONS COMMISSION

[DA 02-270]

Mass Media Bureau; Filing Window for Certain Pending Requests for New NTSC Television Stations on Channels 52-59

AGENCY: Federal Communications Commission.

ACTION: Notice.

SUMMARY: This document announces a filing window opportunity to allow applicants with certain pending requests for new analog (NTSC) television stations on channels 52-59 to modify their requests.

DATES: The filing window opened January 22, 2002 and closes March 8, 2002.

FOR FURTHER INFORMATION CONTACT: Shaun Maher of the Video Services Division, Mass Media Bureau at (202) 418-2324 or Gordon Godfrey of the Policy and Rules Division Mass Media Bureau at 418-2193.

SUPPLEMENTARY INFORMATION: Commencing January 22, 2002, and continuing to and including March 8, 2002, there will be a filing window for certain pending requests for new analog (NTSC) television stations on channels 52-59 to modify their requests. The purpose of this Public Notice is to set forth the filing procedures for this window. This window is available for applicants having applications pending for new NTSC stations on channels 52-59. It is also available for these and other parties with pending applications for new NTSC stations on other channels that have previously filed petitions for rule making for a replacement channel on channels 52-59. These proposals can be modified in one of two ways: (1) To provide analog or digital television (DTV) service in the core television spectrum, i.e., channels 2-51 or (2) to provide DTV service on any available channel in the 698-740 MHz band, i.e., channels 52-58. For these applicants, as applicable, all application amendments, petitions for rule making and amendments to petitions for rule making seeking a new channel must be filed during this window. The Commission will thereafter dismiss all remaining applications for new NTSC stations on channels 52-59 and petitions from applicants that continue to request replacement NTSC allotments on channels 52-59.

Federal Communications Commission.
Roy J. Stewart,
Chief, Mass Media Bureau.

[FR Doc. 02-3724 Filed 2-14-02; 8:45 am]

BILLING CODE 6712-01-P